DEPARTMENT OF COMMERCE

National Oceanic and Atmospheric Administration

Review of Nomination for St. George Unangan Heritage National Marine Sanctuary

AGENCY: Office of National Marine Sanctuaries (ONMS), National Ocean Service (NOS), National Oceanic and Atmospheric Administration (NOAA), Department of Commerce (DOC).

ACTION: Notice.

SUMMARY: On November 17, 2021, the Office of National Marine Sanctuaries of the National Oceanic and Atmospheric Administration requested written comments to facilitate the ONMS five-year review of the nomination for St. George Unangan Heritage National Marine Sanctuary (NMS). NOAA requested relevant information as it pertains to its 11 evaluation criteria for the nomination to remain in the inventory. NOAA has synthesized the information gathered through the public process, completed an internal analysis, and the ONMS Director has made a final determination that the St. George Unangan Heritage NMS nomination will remain in the inventory beyond the January 27, 2022 expiration date.

DATES: This determination took effect on January 27, 2022.

ADDRESSES: Paul Michel, Regional Policy Coordinator, NOAA Sanctuaries West Coast Region, 99 Pacific Street, Bldg. 100F, Monterey, CA 93940, or at Paul.Michel@noaa.gov, or 831-241-4217.

FOR FURTHER INFORMATION CONTACT: Paul Michel, Regional Policy Coordinator, NOAA Sanctuaries West Coast Region, 99 Pacific Street, Bldg. 100F, Monterey, CA 93940, or at Paul.Michel@noaa.gov, or 831-241-4217.

SUPPLEMENTARY INFORMATION:

Background Information

In 2014, NOAA issued a final rule establishing the sanctuary nomination process (SNP), a process by which communities may submit nominations of areas of the marine and Great Lakes environment for NOAA to consider for designation as a national marine sanctuary (79 FR 33851). The final rule establishing the SNP included a five-year limit on any nomination added to the inventory that NOAA does not advance for designation. The nomination for St. George Unangan Heritage NMS was accepted to the national inventory on January 27, 2017, and was scheduled to expire in January 2022.

In November 2019, NOAA issued a notice (84 FR 61546) to clarify procedures for evaluating and updating a nomination as it approaches the five-year mark on the inventory of areas that could be considered for national marine sanctuary designation. This notice explained that if a nomination remains responsive to the 11 evaluation criteria for inclusion on the inventory, it may be appropriate to allow the nomination to remain on the inventory for another five years. The notice also established a process for NOAA to consider the continuing viability of nominations nearing the five-year expiration mark. The 11 evaluation criteria can be found at https://nominate.noaa.gov.

On November 17, 2021, NOAA issued a request for public comments on this nomination (86 FR 64190). NOAA requested relevant information pertaining to the 11 evaluation criteria that NOAA applied to evaluate the St. George Unangan Heritage NMS nomination for inclusion in the national inventory of areas that NOAA may consider for future designation as a national marine sanctuary. During the comment period, 32 public comments were received, and the nominator provided additional information as well, which NOAA has used in evaluating the nomination. Comments can be found at regulations.gov (search for Docket Number NOAA-NOS-2021-0094). In analyzing this material, particular attention was given to new scientific information about the national significance of natural and cultural resources, as well as increases or decreases in the threats to resources originally proposed for protection, and changes to the management framework of the area. NOAA also assessed the level of community-based support for the nomination from a broad range of interests.

Following NOAA's review of information provided regarding the nomination's merit for remaining on the inventory after five years, it was determined that new information shows: There are still significant threats to the area; it is still an area of national significance; and, there is still broad community support for the nomination remaining on the inventory of possible designations, among other criteria that the nomination still continues to meet. Therefore, the ONMS Director has determined the nomination for the St. George Unangan Heritage NMS should remain on the inventory. NOAA is not proposing to designate St. George Unangan Heritage NMS or any other new national marine sanctuary with this action. This notice serves to inform the public of this decision to extend the nomination on the inventory.

Authority: 16 U.S.C. 1431 et seq.

John Armor,
Director, Office of National Marine Sanctuaries, National Ocean Service, National Oceanic and Atmospheric Administration.

[FR Doc. 2022-02473 Filed 2-4-22; 8:45 am]

BILLING CODE 3510-NK-P